DEPARTMENT OF THE TREASURY

Alcohol and Tobacco Tax and Trade Bureau

27 CFR Part 9

[Notice No. 11]

RIN 1512-AC81

Proposed Columbia Gorge Viticultural Area (2002R-103P)

AGENCY: Alcohol and Tobacco Tax and Trade Bureau (TTB), Treasury.

ACTION: Notice of proposed rulemaking.

SUMMARY: TTB proposes to establish a viticultural area named “Columbia Gorge” in Hood River and Wasco Counties, Oregon, and Skamania and Klickitat Counties, Washington, approximately 60 miles east of Portland, Oregon. We invite comments on this proposal.

DATES: Written comments must be received by August 26, 2003.

ADDRESSES: You may send comments to any of the following addresses—

• Chief, Regulations and Procedures Division, Alcohol and Tobacco Tax and Trade Bureau, P.O. Box 50221, Washington, DC 20091-0221 (Attn: Notice No. 11);

• 202-927-8525 (facsimile);

• nprm@ttb.gov (e-mail); or

• http://www.ttb.gov (An online comment form is posted with this notice on our Web site).

You may view copies of the petition, this notice, the appropriate maps, and any comments we receive by appointment at the ATF Reference Library, 650 Massachusetts Avenue, NW., Washington, DC 20226; phone 202-927-7890. You may also access copies of the notice and comments on our Web site at http://www.ttb.gov.

See the Public Participation section of this notice for specific instructions and requirements and for information on how to request a public hearing.

FOR FURTHER INFORMATION CONTACT: Bernard J. Kipp, Specialist, Regulations Division (Portland, Oregon), Alcohol and Tobacco Tax and Trade Bureau, PMB 237, 17675 SW Farmington Rd, Aloha, OR 97007; telephone 503-356-1341.

SUPPLEMENTARY INFORMATION:

TTB Background

What Is the Impact of the Homeland Security Act on Rulemaking?

Effective January 24, 2003, the Homeland Security Act of 2002 divided the Bureau of Alcohol, Tobacco and Firearms (ATF) into two new agencies, the Alcohol and Tobacco Tax and Trade Bureau in the Department of the Treasury and the Bureau of Alcohol, Tobacco, Firearms and Explosives in the Department of Justice. Regulation of wine labeling, including viticultural area designations, is the responsibility of the new TTB. References to ATF in this document relate to events that occurred prior to January 24, 2003, or to functions that the Bureau of Alcohol, Tobacco, Firearms and Explosives continues to perform.

Background on Viticultural Areas

Authority To Establish Viticultural Areas

The Federal Alcohol Administration Act (FAA Act) at 27 U.S.C. 205(e) requires that alcohol beverage labels provide the consumer with adequate information regarding a product's identity, while prohibiting the use of deceptive information on such labels. The FAA Act also authorizes TTB to issue regulations to carry out the Act's provisions.

Regulations in 27 CFR Part 4, Labeling and Advertising of Wine, allow the establishment of definitive viticultural areas and the use of their names as appellations of origin on wine labels and in wine advertisements. Title 27 CFR Part 9, American Viticultural Areas, contains the list of approved viticultural areas.

Definition of American Viticultural Areas

Title 27 CFR 4.25a(e)(1) defines an American viticultural area as a delimited grape-growing region distinguishable by geographic features whose boundaries have been delineated in subpart C of part 9. These designations allow consumers and vintners to attribute a given quality, reputation, or other characteristic of wine made from grapes grown in an area to its geographical origin.

Requirements To Establish a Viticultural Area

Section 4.25a(e)(2) outlines the procedure for proposing an American viticultural area. Anyone interested may petition ATF to establish a grape-growing region as a viticultural area. The petition must include:

• Evidence of local and/or national name recognition of the proposed viticultural area as the area specified in the petition;

• Historical or current evidence that the proposed viticultural area's boundaries are as specified in the petition;

• Evidence relating to geographical characteristics, including growing conditions such as climate, soil, elevation, physical features, etc., that distinguish the proposed area from surrounding areas;

• A description of the specific boundaries of the viticultural area, based on features reflected on United States Geological Survey (USGS) approved maps of the largest applicable scale; and

• A copy (or copies) of the USGS-approved map(s) with the boundaries prominently marked.

Impact on Current Wine Labels

If this proposed viticultural area is established, bottlers who use brand names like the name of the viticultural area may be affected. If you do use a brand name like “Columbia Gorge,” you must ensure that your existing products are eligible to use the name of the viticultural area as an appellation of origin. For a wine to be eligible, at least 85 percent of the grapes in the wine must have been grown within the viticultural area.

If the wine is not eligible to use the appellation, you must change the brand name of that wine and obtain approval of a new label. Different rules apply if you label a wine in this category with a brand name that was used on a label approved before July 7, 1986. See 27 CFR 4.39(i) for details. Additionally, when the name of a viticultural area is presented on a wine label in a context other than as the claimed appellation of origin, then the use of such a viticultural area name is subject to the general prohibitions against misleading representation in part 4 of the regulations.

Columbia Gorge Petition

General

We received a petition requesting establishment of a new viticultural area to be called “Columbia Gorge.” Mark Wharry filed the petition on behalf of the Columbia River Gorge Wine Growers Association. According to the petitioner, the Columbia Gorge is a dramatic river corridor cut through the Cascade Mountains and is the only sea level pass through the range. The petitioner states that this narrow, winding valley with its steep, rising bluffs creates a unique grape-growing region.

This proposed 280 square mile viticultural area is located about 60 miles east of Portland, Oregon, and straddles the Columbia River for fifteen miles while extending into south-central Washington and north-central Oregon. The proposed area surrounds Hood River, Oregon, and White Salmon, Washington, and is generally bordered by B Z Corner, Washington, on the north, Lyle, Washington, on the east, Parkdale, Oregon, on the south, and Vinzenz Lausmann State Park, Oregon, on the west. The proposed area is just west of the established Columbia Valley viticultural area and shares a part of its border with that area.

Viticultural History

According to the petitioner, grapes have been grown in the Columbia Gorge for over a century. In the 1880s, the Jewitt family, founders of the town of White Salmon, Washington, built terraces on a wide south-facing slope on the bluff above Bingen, Washington. They planted American vines that they had brought with them from Illinois. The petitioner also refers to two other pioneer families who brought grape cuttings to the Columbia Gorge. John Balfour, the youngest son of English Lord Balfour, planted and raised a quantity of grapes in the early 1900s near the current location of Lyle, Washington. Leonis and Elizah Meress brought grape cuttings to the area from their native Adele Nord, a village in one of France's coldest regions. Some of the vinifera vines they planted are still alive today and have withstood temperatures well below zero.

Interest in grape growing in the Columbia Gorge was renewed in the early 1960s when experimental plots were planted in White Salmon, Washington. Later, commercial plots were planted under the direction of Washington State University. Today the Columbia River Gorge Wine Growers Association is comprised of 24 growers and 4 wineries. There are 284 acres currently planted to wine grapes in the proposed Columbia Gorge viticultural area with more being planted each year.

Evidence That the Name of the Area Is Locally or Nationally Known

The petitioner indicates that local residents know this narrow, winding valley, with its steeply rising bluffs as “the Gorge,” “Columbia Gorge,” and “Columbia River Gorge.” The petitioner notes that there was some debate as to whether the proposed area's name should be “Columbia Gorge” or “Columbia River Gorge” since both terms are utilized. The term “Columbia River Gorge” often appears as a more formal title, such as the Columbia River Gorge National Scenic Area and the Columbia River Gorge National Fish Hatcheries.

The petitioner contends, however, that “Columbia Gorge” is the most common usage and involves and connotes an area smaller in size than the boundaries of the Federally designated scenic area. Examples of this usage include the Columbia Gorge Interpretive Center of the Skamania County Historical Society, the Columbia Gorge Discovery Center of the Wasco County Historical Museum, and various businesses and tourist attractions. Promotional groups such as the Skamania County Chamber of Commerce, Cascade Locks, use maps titled “Experience the Columbia Gorge” and “Heart of the Columbia Gorge.”

Evidence That Supports the Proposed Boundaries

The petitioner states that the proposed Columbia Gorge viticultural area's boundaries are based on a combination of topographic, soil, and climatic factors that contrast with the nearby Columbia Valley and Willamette Valley viticultural areas. The petitioner uses the 2000-foot elevation line for much of the proposed boundary because it includes lower, flatter, loamy soil and agricultural areas, while excluding higher-elevation lands more suitable for timber due to their steeper, gravelly soil.

Evidence of Distinctive Geographic Features

The petitioner provided the following evidence that the proposed Columbia Gorge viticultural area is a unique grape-growing region distinguished by its topography, soils, and climate:

Topography

The Columbia River carved the Columbia Gorge, and its sides become steep cliffs as the river twists and turns in its westbound course. The sides of the gorge range from sheer rock faces comprised of volcanic outcroppings of igneous and metamorphic rock to gentle stair-step benchlands, which reflect prehistoric lava flow. These benchlands are the most desirable for vineyards, with deep soil and good sun exposure.

The gorge acts as a funnel that works the moist marine air masses to its west and the drier air to its east back and forth. The proposed Columbia Gorge viticultural area benefits from these prevailing winds, which originate over the Pacific ocean and moderate temperatures that otherwise might be warmer in the summer and cooler in the winter.

Soils

The petitioner states that, in general, soil types within the boundaries of the proposed Columbia Gorge viticultural area are silty loams, as opposed to the more gravelly soils found outside the area. As the valleys on both the Washington and Oregon sides of the proposed area slope up to the surrounding hills, the terrain becomes much steeper, and the soil types change noticeably.

Permeability of the silty loams found within the proposed area is slow to moderate, and available water capacity is high. Effective rooting depth is 60 inches or more. Soils present within the proposed area include Chemawa, Underwood Loam, McGowen, Wyest Silt Loam, Van Horn, Parkdale Loam, and Oak Grove Loam series.

By contrast, the areas immediately surrounding the proposed area, both above the 2,000-foot elevation line and east to the Columbia Valley, are generally comprised of gravelly, higher permeability soils. These soils typically support sloped timber areas at more than 2,000 feet above sea level. Examples of soils outside the proposed area are Steeper McElroy, Undusk Gravelly Loam, Husum Gravelly Loam, Rock Outcrop, Bins-Bindle, Yallani, and Hesslan-Skyline series.

Rainfall

The petition states that yearly rainfall totals determined the eastern and western borders of the proposed area. The lands west of the proposed area have more rainfall, cloud cover, and vegetative growth. These factors result in benchlands unsuitable for viticulture. The terrain east of the proposed area is much more arid.

Annual rainfall within the proposed area ranges from 30 inches in the Hood River, Oregon, area at the western end to 18 inches near its eastern end at Lyle, Washington. By comparison, Bonneville Dam and Skamania, Washington, two places west of the proposed area, average 77.54 and 85.49 inches of annual rainfall, respectively. Two towns east of the proposed area, The Dalles, Oregon, and Yakima, Washington, respectively average 14.52 and 8.21 inches of rainfall annually.

Temperature

The average growing temperatures within the proposed area range from 62 degrees (Appleton and Wind River, Washington) to 65 degrees (Hood River, Oregon) as compared to 61 degrees in Skamania and 71.6 degrees in The Dalles. In general, grapes grown in the proposed Columbia Gorge appellation region are early varietals, such as Pinot Noir and Gewurztraminer, which require less high temperature days. By contrast, the Columbia Valley area is able to grow much later varieties, e.g., Merlot and Cabernet Sauvignon, due to significantly higher degree growing days.

Proposed Boundaries

See the narrative boundary description and the listing of maps for the petitioned viticultural area in the proposed regulation published at the end of this notice.

Public Participation

Comments Sought

We request comments from anyone concerned and are particularly interested in comments on whether the name “Columbia River Gorge” is appropriate for the proposed area. Please support your comments with specific information. Examples include name evidence and data about growing conditions or area boundaries.

Although we do not acknowledge receipt, we will consider your comments if we receive them on or before the closing date. We will consider comments received after the closing date if we can. We regard all comments as originals.

Comment Confidentiality

We do not recognize any submitted material as confidential. We will disclose all information on comments and commenters. Do not enclose in your comments any material you consider confidential or inappropriate for disclosure.

Disclosure

You may view copies of the petition, the proposed regulation, the appropriate maps, and any comments received by appointment at the ATF Reference Library, 650 Massachusetts Avenue, NW., Washington, DC 20226. You may also obtain copies at 20 cents per 8.5 x 11 inch page. Contact the ATF Librarian at the above address or telephone 202-927-7890 to schedule an appointment or to request copies of comments.

For your convenience, we will post this notice and the comments received on the TTB Web site. All posted comments will show the names of commenters but not street addresses, telephone numbers, or e-mail addresses. We may also omit voluminous attachments or material that we consider unsuitable for posting. In all cases, the full comment will be available in the ATF Reference Library. To see the online copy of this notice, visit http://www.ttb.gov/alcohol/rules/index.htm. Select the “View comments” link under this notice number to view the posted comments.

Submission of Comments

You may submit comments in any of four ways.

• By mail: You may send written comments to TTB at the address listed in the ADDRESSES section.

• By facsimile: You may submit comments by fax to 202-927-8525. Faxed comments must—

(1) Be on 8.5 by 11 inch paper;

(2) Contain a legible, written signature; and

(3) Be five or less pages long. This limitation assures electronic access to our equipment. We will not accept faxed comments that exceed five pages.

• By e-mail: You may e-mail comments to nprm@ttb.gov. Comments transmitted by electronic-mail must—

(1) Contain your e-mail address;

(2) Reference this notice number on the subject line; and

(3) Be legible when printed on 8.5 by 11 inch paper.

• By online form: We provide a comment form with the online copy of this notice on our Web site at http://www.ttb.gov/alcohol/rules/index.htm. Select the “Send comments via email” link under this notice number.

You may also write to the Administrator before the comment closing date to ask for a public hearing. The Administrator reserves the right to determine, in light of all circumstances, whether a public hearing will be held.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this regulation, if adopted, will not have a significant economic impact on a substantial number of small entities, including small businesses. The proposal imposes no new reporting, recordkeeping, or other administrative requirements.

The establishment of viticultural areas represents neither our endorsement nor approval of the quality of wine made from grapes grown in the areas. Rather, it is a system that identifies areas distinct from one another. In turn, identifying viticultural areas lets wineries describe more accurately the origin of their wines to consumers and helps consumers identify the wines they purchase. Thus, any benefit derived from using a viticultural area name results from the proprietor's efforts and consumer acceptance of wines from that area. Therefore, no regulatory flexibility analysis is required.

Executive Order 12866

This proposed rule is not a “significant regulatory action” as defined by Executive Order 12866. Accordingly, no regulatory assessment is required.

Drafting Information

The principal author of this document is Bernard J. Kipp, Regulations Division (Portland, Oregon), Alcohol and Tobacco Tax and Trade Bureau.

List of Subjects in 27 CFR Part 9

Wine.

Authority and Issuance

For the reasons stated in the preamble, the Alcohol and Tobacco Tax and Trade Bureau proposes to amend Title 27, Code of Federal Regulations, Part 9, American Viticultural Areas, as follows:

PART 9—AMERICAN VITICULTURAL AREAS

1. The authority citation for part 9 continues to read as follows:

Authority: 27 U.S.C. 205.

2. Subpart C is amended by adding § 9.__ to read as follows:

Subpart C—Approved American Viticultural Areas

* * * * *

§ 9.__ Columbia Gorge

(a) Name. The name of the viticultural area described in this section is “Columbia Gorge”.

(b) Approved Maps. The appropriate maps for determining the boundaries of the Columbia Gorge viticultural area are 11 USGS, 1:24,000 scale topographic maps. They are—

(1) Hood River Quadrangle, Oregon—Washington, 1994;

(2) Northwestern Lake Quadrangle, Washington, 1983;

(3) Husum Quadrangle, Washington—Klickitat Co., 1994;

(4) Appleton Quadrangle, Washington—Klickitat Co., 1994;

(5) Lyle Quadrangle, Washington—Oregon, 1994;

(6) Brown Creek Quadrangle, Oregon, 1994;

(7) Ketchum Reservoir Quadrangle, Oregon, 1994;

(8) Parkdale Quadrangle, Oregon—Hood River Co., 1994;

(9) Dee Quadrangle, Oregon—Hood River Co., 1994; and

(10) Mt. Defiance Quadrangle, Oregon—Washington, 1994.

(c) Boundaries. The Columbia Gorge viticultural area is located in Hood River and Wasco Counties, Oregon, and Skamania and Klickitat Counties, Washington. The starting point of the boundary is on the Hood River map, at the intersection of State highway 14 and the range line between R9E and R10E, on the north bank of the Columbia River.

(1) From this point, go north along the R9E/R10E range line to the northwest corner of section 19, T3N, R10E;

(2) Then go east along the section line to the northeast corner of section 20, T3N, R10E;

(3) Then go north along the section line, crossing onto the Northwestern Lake map, to the northwest corner of section 33, T4N, R10E;

(4) Then go east on the section line to the northeast corner of section 33, T4N, R10E;

(5) Then go north on the section line to the northwest corner of section 27, T4N, R10E;

(6) Then go east on the section line to the northeast corner of section 27, T4N, R10E;

(7) Then go north on the section line to its intersection with the township line between T4N and T5N;

(8) Then go east on the township line, crossing onto the Husum map, to the northeast corner of section 5, T4N, R11E;

(9) Then go south on the section line to the southwest corner of section 9, T4N, R11E;

(10) Then go east on the section line to the northeast corner of section 15, T4N, R11E;

(11) Then go south on the section line to the southwest corner of section 26, T4N, R11E;

(12) Then go east on the section line, crossing onto the Appleton map, to the range line between R11E and R12E;

(13) Then go south on the range line approximately 1.25 miles to its intersection with the 2,000-foot contour line near the northeast corner of section 1, T3N, R11E;

(14) Then go south along the 2,000-foot contour line through sections 1 and 12; then generally east through sections 7, 18, 8, and 9 to section 10; then generally north, weaving back and forth between sections 3, 4, 33, and 34; then south to section 3, until the 2,000-foot contour line first intersects the section line between sections 2 and 3, T3N, R12E, near a creek and an unnamed light duty road;

(15) Then go south on the section line, crossing onto the Lyle map, and continuing south until it intersects with the Klickitat River;

(16) Then go generally southwest along the Klickitat River until it joins the Columbia River, then continue southwest in a straight line to the Washington-Oregon State line in the center of the Columbia River;

(17) Then follow the State line generally southeast until it intersects with a northward extension of the range line between R12E and R13E;

(18) Then go south on the range line, crossing onto the Brown Creek map, to the point where the range line intersects the base line between T1N and T1S;

(19) Then go west along the base line, crossing on to the Ketchum Reservoir map, to its intersection with the range line between R11E and R12E in T1N;

(20) Then go north on the range line to its intersection with the township line between T1N and T2N;

(21) Then go west on the township line, crossing on to the Parkdale map, to its intersection with the range line between R10E and R11E;

(22) Then go south on the range line approximately 2 miles to its intersection with the 2,000-foot contour line near the southern border of section 12, T1N, R10E;

(23) Then go along the 2,000-foot contour line generally southwest through sections 12, 13, 14, 23, 22, 26, 27, and 34 in T1N, and section 4 in T1S, to the 2,000-foot contour line's intersection with the section line between sections 4 and 9, T1S, R10E;

(24) Then go west along the section line to its intersection with the range line between R9E and R10E in T1S;

(25) Then go north along the range line to its intersection with the base line between T1S and T1N;

(26) Then go west along the baseline, crossing onto the Dee map, to its intersection with the range line between R9E and R10E;

(27) Then go north along the range line to the southeast corner of section 13, T1N, R9E;

(28) Then go west along the section line to the southwest corner of section 14, T1N, R9E;

(29) Then go north along the section line to the northwest corner of section 14, T1N, R9E;

(30) Then go east along the section line to the northeast corner of section 14, T1N, R9E;

(31) Then go north along the section line until its intersection with the township line between T1N and T2N;

(32) Then follow the township line east to its intersection with the range line between R9E and R10E;

(33) Then go north along the range line, crossing on to the Mt. Defiance map, to the Washington-Oregon State line in the Columbia River;

(34) Then go northeast along the State line, crossing onto the Hood River map, to its intersection with a southward extension of the range line between R9E and R10E;

(35) Then go due north along that extension approximately 0.5 mile to the starting point.

Signed: June 18, 2003.
John J. Manfreda,
Acting Administrator.

[FR Doc. 03-16324 Filed 6-26-03; 8:45 am]

BILLING CODE 4810-31-P